FEDERAL COMMUNICATIONS COMMISSION

Notice of Sunshine Act Meeting

June 14, 2006.

Open Commission Meeting

Wednesday, June 21, 2006

The Federal Communications Commission will hold an Open Meeting on the subjects listed below on Wednesday, June 21, 2006, which is scheduled to commence at 9:30 a.m. in Room TW-C305, at 445 12th Street, SW., Washington, DC.

Item number | Bureau | Subject
1 | Media | Title: Cable Carriage of Digital Television Broadcast Signals (CS Docket No. 98-120).
|  | Summary: The Commission will consider a Second Order on Reconsideration and Second Further Notice of Proposed Rulemaking concerning the mandatory carriage of digital broadcast television signals by cable operators.
2 | Media | Title: 2006 Quadrennial Regulatory Review—Review of the Commission's Broadcast Ownership Rules and Other Rules Adopted Pursuant to Section 202 of the Telecommunications Act of 1996; 2002 Biennial Regulatory Review—Review of the Commission's Broadcast Ownership Rules and Other Rules Adopted Pursuant to Section 202 of the Telecommunications Act of 1996 (MB Docket No. 02-277); Cross-Ownership of Broadcast Stations and Newspapers (MM Docket No. 01-235); Rules and Policies Concerning Multiple Ownership of Radio Broadcast Stations in Local Markets (MM Docket No. 01-317); and Definition of Radio Markets (MM Docket No. 00-244).
|  | Summary: The Commission will consider a Further Notice of Proposed Rulemaking concerning its broadcast ownership rules.
3 | Wireline Competition | Title: Universal Service Contribution Methodology; Federal-State Joint Board on Universal Service (CC Docket No. 96-45); 1998 Biennial Regulatory Review—Streamlined Contributor Reporting Requirements Associated with Administration of Telecommunications Relay Service, North American Numbering Plan, Local Number Portability, and Universal Service Support Mechanisms (CC Docket No. 98-171); Telecommunications Services for Individuals with Hearing and Speech Disabilities, and the Americans with Disabilities Act of 1990 (CC Docket No. 90-571); Administration of the North American Numbering Plan and North American Numbering Plan Cost Recovery Contribution Factor and Fund Size (CC Docket No. 92-237); Number Resource Optimization (CC Docket No. 99-200); Telephone Number Portability (CC Docket No. 95-116); Truth-in-Billing and Billing Format (CC Docket No. 98-170); and IP-Enabled Services (WC Docket No. 04-36).
|  | Summary: The Commission will consider a Report and Order and Notice of Proposed Rulemaking concerning its approach for assessing contributions to the Federal universal service fund.
4 | International | Title: The Establishment of Policies and Service Rules for the Broadcasting Satellite Service at the 17.3-17.7 GHz Frequency Band and at the 17.7-17.8 GHz Frequency Band Internationally, and at the 24.75-25.25 GHz Frequency Band for Fixed Satellite Services Providing Feeder Links to the Broadcasting-Satellite Service and for the Broadcasting Satellite Service Operating Bi-directionally in the 17.3-17.7 GHz Frequency Band.
|  | Summary: The Commission will consider a Notice of Proposed Rulemaking concerning processing and service rules for the 17/24 GHz Broadcasting Satellite Service (BSS).

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-5562 Filed 6-16-06; 1:19 pm]

BILLING CODE 6712-01-P